DEPARTMENT OF THE INTERIOR

National Park Service

[NPS-WASO-ADIR-PMSP-NPS0028310; PPWOIRADA1, PPMPSAS1Y.TY0000 (200); OMB Control Number 1024-0280]

Agency Information Collection Activities; Certification of Identity and Consent Form

AGENCY: National Park Service, Interior.

ACTION: Notice of information collection; request for comment.

SUMMARY: In accordance with the Paperwork Reduction Act of 1995, we, the National Park Service (NPS) are proposing to renew an information collection.

DATES: Interested persons are invited to submit comments on or before February 10, 2020.

ADDRESSES: Send written comments on this information collection request (ICR) to the Office of Management and Budget's (OMB) Desk Officer for the Department of the Interior by email at OIRA_Submission@omb.eop.gov; or by facsimile at 202-395-5806. Please provide a copy of your comments to Phadrea Ponds, Acting Information Collection Clearance Officer, National Park Service, 1201 Oakridge Drive, Fort Collins, CO 80525; or by email at phadrea_ponds@nps.gov. Please reference OMB Control Number 1024-0280 in the subject line of your comments.

FOR FURTHER INFORMATION CONTACT: To request additional information about this ICR contact Charis Wilson, NPS Freedom of Information Act (FOIA) Officer, 12795 W Alameda Parkway, P.O. Box 25287, Denver, CO 80225-0287; or by email at charis_wilson@nps.gov. Please reference OMB Control Number 1024-0280 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On October 4, 2019, we published a Federal Register notice soliciting comments on this collection of information for 60 days, ending on December 3, 2019 (84 FR 53172). We did not receive any public comments on this notice.

We are again soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS maintains law enforcement incident reports in the Department of the Interior's Incident and Management Reporting System (IMARS), which is a Privacy Act System of Records (DOI-10). In accordance with the Privacy Act (5 U.S.C. 552a(b)), the NPS is barred from releasing copies of records contained within IMARS, including but not limited to motor vehicle accident reports, without the prior written request and/or consent of the individual to whom the record pertains unless authorized under appropriate routine-use exceptions.

The purpose of the collection is to enable the NPS to respond to requests made under the FOIA and the Privacy Act of 1974 by locating applicable law enforcement case incident reports responsive to the request. Information includes sufficient personally identifiable information and/or source documents as applicable. The detailed personal information, to include the date/place of birth, as well as the requestor's Social Security Number, is needed to identify records unique to the requestor. Failure to provide the required information may result in the NPS being unable to take any action on the request.

The NPS uses Form 10-945, “Certification of Identity and Consent” to collect the minimal information necessary to verify the identity of first-party requesters and to document if and when they authorize the NPS to release their information to a third party. The form collects the following information to verify the identity of the requester:

• Full name of Requester;

• Case Number;

• Social Security Number;

• Current Address;

• Date of Birth; and

• Place of birth.

Title of Collection: Certification of Identity and Consent Form.

OMB Control Number: 1024-0280.

Form Number: NPS Form 10-945.

Type of Review: Extension of a currently approved collection.

Description of Respondents: Individuals requesting copies of law enforcement case incident reports maintained within the Department of Interior's IMARS.

Total Estimated Number of Annual Respondents: 2,000.

Total Estimated Number of Annual Responses: 2,000.

Estimated Completion Time per Response: 3 minutes.

Total Estimated Number of Annual Burden Hours: 100.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Acting, Information Collection Clearance Officer, National Park Service.

[FR Doc. 2020-00166 Filed 1-8-20; 8:45 am]

BILLING CODE 4312-52-P